DEPARTMENT OF EDUCATION

[Docket No.: ED-2019-ICCD-0160]

Agency Information Collection Activities; Comment Request; Study of District and School Uses of Federal Education Funds

AGENCY: Institute of Education Sciences (IES), Department of Education (ED).

ACTION: Notice.

SUMMARY: In accordance with the Paperwork Reduction Act of 1995, ED is proposing a new information collection.

DATES: Interested persons are invited to submit comments on or before February 24, 2020.

ADDRESSES: To access and review all the documents related to the information collection listed in this notice, please use http://www.regulations.gov by searching the Docket ID number ED-2019-ICCD-0160. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W-208B, Washington, DC 20202-4537.

FOR FURTHER INFORMATION CONTACT: For specific questions related to collection activities, please contact Stephanie Stullich, 202-245-6468.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of District and School Uses of Federal Education Funds.

OMB Control Number: 1850-NEW.

Type of Review: A new information collection.

Respondents/Affected Public: State, Local, and Tribal Governments.

Total Estimated Number of Annual Responses: 306.

Total Estimated Number of Annual Burden Hours: 306.

Abstract: The Study of District and School Uses of Federal Education Funds will examine targeting and resource allocation for five major federal education programs: Part A of Titles I, II, III, and IV of the Elementary and Secondary Education Act (ESEA)—including school improvement grants provided under Section 1003 of Title I, Part A—as well as Title I, Part B of the Individuals with Disabilities Education Act (IDEA). The study will collect detailed fiscal data from a nationally representative sample of 400 school districts, including budgets, plans, expenditure data, and personnel and payroll data. In addition, the study will collect data on allocations to districts and schools to examine how the distribution of funds varies in relation to program goals and student needs; survey district and school officials to explore such issues as the types of services and resources that are provided through the federal funds, coordination across programs, and use of flexibility; conduct interviews in nine site visits to districts to obtain more in-depth data; and analyze fiscal data.

This package is the first of two OMB clearance requests for this study. This package requests approval for selection and recruitment of nationally representative samples of school districts and schools and collection of certain preliminary information from states (i.e., lists of subgrantees and suballocation amounts for each program, contact information for district program coordinators for each of the covered ESEA programs, and the state chart of accounts). A future submission will request OMB clearance for the data collection instruments for this study. We anticipate beginning collection of subgrantee lists and other preliminary information in May 2020 and launching the district- and school-level data collection in September 2020.

Dated: December 18, 2019.
Stephanie Valentine,
PRA Coordinator, Strategic Collections and Clearance, Governance and Strategy Division, Office of Chief Data Officer, Office of Planning, Evaluation and Policy Development.

[FR Doc. 2019-27754 Filed 12-23-19; 8:45 am]

BILLING CODE 4000-01-P